DEPARTMENT OF TRANSPORTATION

National Highway Traffic Safety Administration

49 CFR Part 571

[Docket No. NHTSA-2014-0012]

RIN 2127-AK95

Federal Motor Vehicle Safety Standards; Child Restraint Systems—Side Impact Protection

AGENCY: National Highway Traffic Safety Administration (NHTSA), Department of Transportation.

ACTION: Notice of proposed rulemaking; reopening of comment period.

SUMMARY: This document reopens the comment period for a notice of proposed rulemaking (NPRM) published January 28, 2014. The NPRM proposes to amend Federal Motor Vehicle Safety Standard (FMVSS) No. 213, “Child restraint systems,” to adopt side impact performance requirements for all child restraint systems designed to seat children in a weight range that includes weights up to 18 kilograms (kg) (40 pounds (lb)). The original comment period closed April 28, 2014. In response to a petition from the Juvenile Products Manufacturers Association, NHTSA is reopening the comment closing date for 120 days.

DATES: The comment closing date for the January 28, 2014 NPRM (Docket No. NHTSA-2014-0012; 79 FR 4570) is October 2, 2014.

ADDRESSES: You may submit comments to Docket No. NHTSA-2014-0012 by any of the following methods:

• Federal eRulemaking Portal: Go to http://www.regulations.gov. Follow the online instructions for submitting comments.

• Mail: Docket Management Facility, M-30, U.S. Department of Transportation, West Building, Ground Floor, Rm. W12-140, 1200 New Jersey Avenue SE., Washington, DC 20590.

• Hand Delivery or Courier: West Building Ground Floor, Room W12-140, 1200 New Jersey Avenue SE., between 9 a.m. and 5 p.m. Eastern Time, Monday through Friday, except Federal holidays.

• Fax: (202) 493-2251.

Regardless of how you submit your comments, please mention the docket number of the January 28, 2014 NPRM.

You may also call the Docket at 202-366-9324.

Instructions: For detailed instructions on submitting comments and additional information on the rulemaking process, see the discussion under the Public Participation heading of the January 28, 2014 NPRM (79 FR 4570). Note that all comments received will be posted without change to http://www.regulations.gov, including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: For technical issues, you may call Cristina Echemendia, Office of Crashworthiness Standards, (Telephone: 202-366-6345) (Fax: 202-493-2990). For legal issues, you may call Deirdre Fujita, Office of Chief Counsel (Telephone: 202-366-2992) (Fax: 202-366-3820). Mailing address: National Highway Traffic Safety Administration, U.S. Department of Transportation, 1200 New Jersey Avenue SE., West Building, Washington, DC 20590.

SUPPLEMENTARY INFORMATION: On January 28, 2014, NHTSA published an NPRM proposing to amend FMVSS No. 213, “Child restraint systems,” to adopt side impact performance requirements for all child restraint systems (CRSs) designed to seat children in a weight range that includes weights up to 18 kg (40 lb) (79 FR 4570). Frontal and side crashes account for most child occupant fatalities. Standard No. 213 currently requires child restraints to meet a dynamic test simulating a 48.3 kilometers per hour (30 miles per hour) frontal impact. The January 2014 proposal would require an additional test in which such child restraints must protect the child occupant in a dynamic test simulating a full-scale vehicle-to-vehicle side impact.

Under the NPRM, child restraints would be tested with a newly-developed instrumented side impact test dummy representing a 3-year-old child, called the “Q3s” dummy, and with a well-established 12-month-old child test dummy (the Child Restraint Air Bag Interaction (CRABI) dummy). NHTSA published an NPRM proposing to amend our regulation for anthropomorphic test devices (ATDs), 49 CFR Part 572, to add specifications for the Q3s (78 FR 69944; November 21, 2013). The CRABI dummy's specifications are already incorporated into 49 CFR Part 572, in Subpart R.

NHTSA issued the January 28, 2014 NPRM to ensure that child restraints subject to the rulemaking effectively restrain the child occupant in a side impact, prevent harmful head contact with an intruding vehicle door or child restraint structure, and attenuate crash forces to the child's head and chest. The NPRM also responded to a statutory mandate set forth in the “Moving Ahead for Progress in the 21st Century Act” (July 6, 2012), directing the Secretary of Transportation to issue a final rule amending FMVSS No. 213 to improve the protection of children seated in child restraint systems during side impacts.

NHTSA provided a three-month comment period for the January 2014 proposal, which closed April 28, 2014.

Petition

The Juvenile Products Manufacturers Association (JPMA) submitted a March 7, 2014 petition to extend the comment period for the January 2014 NPRM 120 days “to allow JPMA member companies the opportunity to have access to the proposed Q3s 3-year-old side impact ATD for use in their testing.” JPMA believes that the original three-month comment period was too short to enable manufacturers “to thoroughly evaluate the potential implications” of the proposed rule and to “provide constructive feedback to NHTSA.”

Moreover, JPMA states that the Q3s dummy's availability from the dummy manufacturer has been limited. “Without the ability to inspect, observe and learn about [the Q3s's] performance strengths and limitations, particularly in regard to its repeatability and reproducibility characteristic, our CRS manufacturing members are seriously limited in our ability to comment in the time period prescribed in the current NPRM.” The petitioner notes that a test laboratory has indicated that it will be able to start testing with a Q3s in March, but there is “a substantial waiting list in place amongst the manufacturers” to undergo testing of their products at that lab and elsewhere. JPMA requests an additional 120 days to comment to undertake testing and to evaluate the Q3s and to “provide substantive and quantifiable data back to NHTSA.”

Agency Decision

In accordance with NHTSA's rulemaking procedures in 49 CFR Part 553, Subpart B, the agency is granting JPMA's request. (Because the comment period has closed, we are not extending it but instead we are reopening it for 120 days.) We have determined that the petitioner has shown good cause for having more time to comment, and that reopening the comment period is consistent with the public interest (see 49 CFR 553.19).

NHTSA has confirmed that the Q3s dummy was generally unavailable from the dummy manufacturer until recently. Given that information, we agree that reopening the comment period for 120 days is reasonable, since many child restraint manufacturers cannot arrange to have their products tested concurrently but will have to wait for their turn at test facilities to have their products evaluated. Time is needed to accommodate the wait, to conduct the testing, to evaluate the data, and to draft and submit comments on the rulemaking. We believe that 120 days provides a reasonable time period to accomplish this.

Accordingly, the public comment period for Docket No. NHTSA-2014-0012 is reopened as indicated in the DATES section of this document.

Please note that even after the comment closing date has passed, NHTSA will continue to file relevant information in the Docket as it becomes available. Further, some people may submit late comments, which NHTSA will consider to the extent possible. Accordingly, the agency recommends that readers periodically check the Docket for new material.

Authority: 49 U.S.C. 322, 30111, 30115, 30117 and 30166; delegation of authority at 49 CFR 1.95.

Claude H. Harris,
Acting Associate Administrator for Rulemaking.

[FR Doc. 2014-12899 Filed 6-3-14; 8:45 am]

BILLING CODE 4910-59-P